NATIONAL SCIENCE FOUNDATION

Committee Management Renewals

The NSF management officials having responsibility for the advisory committees listed below have determined that renewing these groups for another two years is necessary and in the public interest in connection with the performance of duties imposed upon the Director, National Science Foundation (NSF), by 42 USC 1861 et seq. This determination follows consultation with the Committee Management Secretariat, General Services Administration.

1115 Advisory Committee for Computer and Information Science and Engineering

13853 Advisory Committee for GPRA Performance Assessment

66 Advisory Committee for Mathematical and Physical Sciences

1171 Advisory Committee for Social Behavioral and Economic Sciences

1173 Committee on Equal Opportunities in Science and Engineering

1186 Proposal Review Panel for Astronomical Sciences

1189 Proposal Review Panel for Bioengineering and Environmental Systems

1190 Proposal Review Panel for Chemical and Transport Systems

1191 Proposal Review Panel for Chemistry

1205 Proposal Review Panel for Civil and Mechanical Systems

1207 Proposal Review Panel for Computer and Network Systems

1192 Proposal Review Panel for Computing & Communication Foundations

1194 Proposal Review Panel for Design Manufacture and Industrial Innovation

1196 Proposal Review Panel for Electrical and Communications Systems

59 Proposal Review Panel for Elementary Secondary & Informal Education

173 Proposal Review Panel for Engineering Education and Centers

1198 Proposal Review Panel for Experimental Programs to Stimulate Competitive Research

57 Proposal Review Panel for Graduate Education

1199 Proposal Review Panel for Human Resource Development

1200 Proposal Review Panel for Information and Intelligent Systems

1203 Proposal Review Panel for Materials Research

1204 Proposal Review Panel for Mathematical Sciences

1208 Proposal Review Panel for Physics

1209 Proposal Review Panel for Polar Programs

1210 Proposal Review Panel for Research Evaluation and Communication

1185 Proposal Review Panel for Shared Cyberinfrastructure

1214 Proposal Review Panel for Undergraduate Education

Effective date for renewal is July 1, 2004. For more information, please contact Susanne Bolton, NSF, at (703) 292-7488.

Dated: June 28, 2004.
Susanne Bolton,
Committee Management Officer.

[FR Doc. 04-14960 Filed 6-30-04; 8:45 am]

BILLING CODE 7555-01-M